DEPARTMENT OF COMMERCE

National Institute of Standards and Technology

Industrial Advisory Committee

AGENCY: National Institute of Standards and Technology, Department of Commerce.

ACTION: Notice of open meeting.

SUMMARY: The Industrial Advisory Committee (Committee) will hold an open meeting in-person and via web conference on Thursday, December 8, 2022, from 9 a.m. to 3 p.m. Eastern Time. The primary purposes of this meeting are to update the Committee on the progress of the Creating Helpful Incentives to Produce Semiconductors (CHIPS) Research & Development (R&D) Programs, receive updates from the Committee working groups, and allow the Committee to deliberate and discuss the progress that has been made. The final agenda will be posted on the NIST website at https://www.nist.gov/chips/industrial-advisory-committee.

DATES: The Industrial Advisory Committee will meet on Thursday, December 8, 2022, from 9 a.m. to 3 p.m. Eastern Time. The meeting will be open to the public.

ADDRESSES: The meeting will be held in person and via web conference, from the Grand Hyatt Washington Hotel, located at 1000 H St. NW, Washington, DC. For instructions on how to attend and/or participate in the meeting, please see the SUPPLEMENTARY INFORMATION section of this notice.

FOR FURTHER INFORMATION CONTACT: Tamiko Ford at Tamiko.Ford@NIST.gov or (202) 594-6793.

SUPPLEMENTARY INFORMATION: The Committee was established pursuant to 15 U.S.C. 4656(b). The Committee is currently composed of 24 members, appointed by the Secretary of Commerce, to provide advice to the United States Government on matters relating to microelectronics research, development, manufacturing, and policy. Background information on the CHIPS Act and information on the Committee is available at https://www.nist.gov/chips/industrial-advisory-committee.

Pursuant to the Federal Advisory Committee Act, as amended, 5 U.S.C. App., notice is hereby given that the Industrial Advisory Committee will meet on Thursday, December 8, 2022, from 9 a.m. to 3 p.m. Eastern Time. The meeting will be open to the public and will be held in-person and via web conference. Interested members of the public will be able to participate in the meeting from remote locations or in-person. The primary purposes of this meeting are to update the Committee on the progress of the CHIPS R&D Programs, receive updates from the Committee working groups, and allow the Committee to deliberate and discuss the progress that has been made. The final agenda will be posted on the NIST website at https://www.nist.gov/chips/industrial-advisory-committee.

Individuals and representatives of organizations who would like to offer comments and suggestions related to items on the Committee's agenda for this meeting are invited to submit comments in advance of the meeting. Approximately ten minutes will be reserved for public comments, which will be read on a first-come, first-served basis. Only comments received through the registration link will be read during this period. Please note that all submitted comments will be treated as public documents and will be made available for public inspection. Comments read during this period will not be considered for response. All comments must be submitted via the registration link https://events.nist.gov/profile/18507 by 5 p.m. Eastern Time, Wednesday, December 7, 2022. Additional written comments may be submitted after the meeting to Ben Davis at Benjamin.Davis@NIST.gov.

All visitors to the meeting are required to pre-register to be admitted. Space is limited and in-person attendance will be allowed on a first-come, first-served basis. Anyone wishing to attend this meeting in-person or via web conference must register by 5 p.m. Eastern Time, Wednesday, December 7, 2022, to attend. Please submit your full name, the organization you represent (if applicable), email address, and phone number via https://events.nist.gov/profile/18507. Non-U.S. citizens must submit additional information; please contact Tamiko Ford at Tamiko.Ford@nist.gov for more information. For participants attending in person, please note that you must present a state-issued driver's license or identification card for access to the meeting. The license or identification card must be issued by a state that is compliant with the REAL ID Act of 2005 (Pub. L. 109-13), or by a state that has an extension for REAL ID compliance. NIST currently accepts other forms of federal-issued identification in lieu of a state-issued driver's license. Registration for in-person attendance will be available on site and open from 8:30 a.m. until 10 a.m.

Pursuant to 41 CFR 102-3.150(b), the Federal Register notice for this meeting is being published fewer than 15 calendar days prior to the meeting as exceptional circumstances exist. It is imperative that the meeting be held on December 8, 2022 to accommodate the scheduling priorities of the key participants and due to the urgent nature of the Committee's work. The Federal Register notice could not be published previously due to logistical requirements needed to accommodate the timing requirement of the meeting and to ensure opportunities for public access and participation.

Alicia Chambers,
NIST Executive Secretariat.

[FR Doc. 2022-26669 Filed 12-6-22; 8:45 am]

BILLING CODE 3510-13-P